DEPARTMENT OF LABOR

Employment and Training Administration

[TA-W-57,607]

NCO Financial Systems, Inc., Hampton, VA; Notice of Termination of Investigation

Pursuant to Section 221 of the Trade Act of 1974, an investigation was initiated on July 5, 2005, in response to a petition filed by a company official on behalf of workers at NCO Financial Systems, Inc., Hampton, Virginia.

The petitioner has requested that the petition be withdrawn. Consequently, the investigation has been terminated.

Signed in Washington, DC, this 27th day of July 2005.
Elliott S. Kushner,
Certifying Officer, Division of Trade Adjustment Assistance.

[FR Doc. E5-4503 Filed 8-17-05; 8:45 am]

BILLING CODE 4510-30-P